GENERAL SERVICES ADMINISTRATION

Federal Travel Regulation; Publication of Electronic Copy

AGENCY: Office of Governmentwide Policy, General Services Administration (GSA).

ACTION: Notice.

SUMMARY: GSA announces publication of an improved electronic Federal Travel Regulation (FTR), and the discontinuance of the hard copy FTR looseleaf edition.

FOR FURTHER INFORMATION CONTACT: Jane Groat, Travel Management Policy Division, Office of Transportation and Personal Property, General Services Administration, Washington, DC 20405, (202) 501-4318, jane.groat@gsa.gov.

SUPPLEMENTARY INFORMATION: The FTR is the regulation contained in 41 Code of Federal Regulations (CFR), Chapters 300 through 304, which implements statutory requirements and Executive branch policies for travel by Federal civilian employees and others authorized to travel at Government expense.

GSA's goal is to publish the improved electronic FTR within the next 30 days. This edition contains a new look in appearance only and does not include new policy changes. Discontinuance of the hard copy FTR looseleaf edition is expected to follow in the near future after coordination with the Government Printing Office and Federal printing and publication officials.

Dated: December 24, 2003.
Peggy DeProspero,
Director, Travel Management Policy Division.

[FR Doc. 04-63 Filed 1-2-04; 8:45 am]

BILLING CODE 6820-14-P